DEPARTMENT OF COMMERCE

International Trade Administration

[C-570-054]

Certain Aluminum Foil From the People's Republic of China: Final Results of the Countervailing Duty Administrative Review; 2017-2018

AGENCY: Enforcement and Compliance, International Trade Administration, Department of Commerce.

SUMMARY: The Department of Commerce (Commerce) determines that countervailable subsidies are being provided to producers and exporters of certain aluminum foil (aluminum foil) from the People's Republic of China (China) during the period of review (POR) August 14, 2017, through December 31, 2018.

DATES: Applicable March 2, 2021.

FOR FURTHER INFORMATION CONTACT: John McGowan or Tyler Weinhold, AD/CVD Operations, Office VI, Enforcement and Compliance, International Trade Administration, U.S. Department of Commerce, 1401 Constitution Avenue NW, Washington, DC 20230; telephone: (202) 482-3019 or (202) 482-1121, respectively.

SUPPLEMENTARY INFORMATION:

Background

Commerce published the Preliminary Results of this administrative review in the Federal Register on June 29, 2020.¹ We invited interested parties to comment on the Preliminary Results. On August 10, 2020, we received timely filed case briefs from the following interested parties: Jiangsu Zhongji Lamination Materials Co., Ltd. (Zhongji); Xiamen Xiashun Aluminum Foil Co., Ltd. (Xiamen); the Government of China (GOC); and the Aluminum Association Trade Enforcement Working Group (the petitioners).² On August 31, 2020, we received a timely filed rebuttal brief from the petitioners. Further, we received letters in lieu of case and rebuttal briefs from ProAmpac ³ on August 10 and 31, 2020, respectively.

¹ See Certain Aluminum Foil from the People's Republic of China: Preliminary Results of the Countervailing Duty Administrative Review and Rescission of Review, in Part; 2017-2018, 85 FR 38861 (June 29, 2020) (Preliminary Results), and accompanying Preliminary Results Memorandum.

² Individual Members of the Aluminum Association Trade Enforcement Working Group include: JW Aluminum Company, Novelis Corporation, and Reynolds consumer Products LLC.

³ ProAmpac Intermediate, Inc., Ampac Holdings, LLC and Jen-Coat, Inc., DBA Prolamina (collectively, ProAmpac).

On July 21, 2020, Commerce tolled the due date for these final results by 60 days.⁴ On December 16, 2020, Commerce extended the period for issuing these final results of review by 60 days, until February 24, 2021.⁵

⁴ See Memorandum, “Tolling of Deadlines for Antidumping and Countervailing Duty Administrative Reviews,” dated July 21, 2020.

⁵ See Memorandum, “Certain Aluminum Foil from the People's Republic of China: Extension of Deadline for Final Results of Countervailing Duty Administrative Review; 8/14/2017—12/31/2018,” dated December 16, 2020.

Scope of the Order

The product covered by the Order is aluminum foil from China.⁶ A full description of the scope of the Order is contained in the Issues and Decision Memorandum.⁷

⁶ See Certain Aluminum Foil from the People's Republic of China: Amended Final Affirmative Countervailing Duty Determination and Countervailing Duty Order, 76 FR 17360 (April 19, 2018)

⁷ See Memorandum, “Decision Memorandum for the Final Results of the 2017-2018 Countervailing Duty Administrative Review of Certain Aluminum Foil from the People's Republic of China,” dated concurrently with, and hereby adopted by, this notice (Issues and Decision Memorandum).

Analysis of Comments Received

All issues raised in interested parties' briefs are addressed in the Issues and Decision Memorandum accompanying this notice. A list of the issues raised by interested parties, and to which Commerce responded in the Issues and Decision Memorandum, is provided in the Appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at http://enforcement.trade.gov/frn/. The signed and electronic versions of the Issues and Decision Memorandum are identical in content.

Changes Since the Preliminary Results

Based on comments received and record evidence, Commerce made certain changes to the Preliminary Results, correcting certain minor calculation errors with regard to the respondent companies, Zhongji and Xiashun. These changes are explained in the Issues and Decision Memorandum.

Methodology

Commerce is conducting this review in accordance with section 751(a)(l)(A) of the Tariff Act of 1930, as amended (the Act). For each of the subsidy programs found countervailable, Commerce continues to find that there is a subsidy, i.e., a government-provided financial contribution that gives rise to a benefit to the recipient, and that the subsidy is specific.⁸ For a full description of the methodology underlying all of Commerce's conclusions, including any determination that relied upon the use of adverse facts available pursuant to section 776(a) and (b) of the Act, see the Issues and Decision Memorandum.

⁸ See sections 771(5)(B) and (D) of the Act regarding financial contribution; section 771(5)(E) of the Act regarding benefit; and section 771(5A) of the Act regarding specificity.

Final Results of Administrative Review

In accordance with 19 CFR 351.221(b)(5), Commerce calculated a countervailable subsidy rate for mandatory respondents Zhongji and Xiashun. For the non-selected companies subject to this review, Commerce followed its practice, which is to base the subsidy rates on a weighted average of the subsidy rates calculated for those companies selected for individual examination, excluding rates of zero, de minimis, or rates determined entirely based on adverse facts available.⁹ To this end, Commerce calculated a rate by weight averaging the calculated subsidy rates of Zhongji and Xiashun using their publicly-available sales data for exports of subject merchandise to the United States during the POR. Commerce finds the countervailable subsidy rates for the producers/exporters under review to be as follows:

⁹ See, e.g., Certain Pasta from Italy: Preliminary Results of the 13th (2008) Countervailing Duty Administrative Review, 75 FR 18806, 18811 (April 13, 2010), unchanged in Certain Pasta from Italy: Final Results of the 13th (2008) Countervailing Duty Administrative Review, 75 FR 37386 (June 29, 2010).

¹⁰ As discussed in the Preliminary Decision Memorandum, Commerce has found the following companies to be cross-owned with Jiangsu Zhongji Lamination Materials Co., Ltd.; Jiangsu Zhongji Lamination Materials Co., (HK) Ltd. (Zhongji HK); Jiangsu Huafeng Aluminum Industry Co. Ltd. (Jiangsu Huafeng); Shantou Wanshun Material Stock Co., Ltd. (Shantou Wanshun); and Anhui Maximum Aluminum Industries Company Limited (Anhui Maximum). The subsidy rates apply to all cross-owned companies.

¹¹ In the investigation, Commerce found the following companies to be cross-owned with Dingsheng Aluminum Industries (Hong Kong) Trading Co., Ltd.: Jiangsu Dingsheng New Materials Joint-Stock Co., Ltd.; Hangzhou Teemful Aluminum Co., Ltd.; Hangzhou Five Star Aluminum Co., Ltd.; Hangzhou DingCheng Aluminum Co., Ltd.; Luoyang Longding Aluminum Co., Ltd.; Hangzhou Dingsheng Industrial Group Co., Ltd.; Hangzhou Dingsheng Import & Export Co., Ltd.; and Walson (HK) Trading Co., Limited. The subsidy rates apply to all cross-owned companies.

¹² In the investigation, Commerce found the following company to be cross-owned with Suzhou Manakin Aluminum Processing Technology Co., Ltd.: Manakin Indutries, LLC. The subsidy rates apply to all cross-owned company.

Company | Subsidy rate-2017 (percent ad valorem) | Subsidy rate-2018 (percent ad valorem)
Jiangsu Zhongji Lamination Materials Co., Ltd.¹⁰ | 45.22 | 48.36
Xiamen Xiashun Aluminum Foil Co., Ltd. | 17.05 | 19.88
Dingsheng Aluminum Industries (Hong Kong) Trading Co. Ltd.¹¹ | 31.50 | 41.90
Hunan Suntown Marketing Limited | 31.50 | 41.90
Inner Mongolia Liansheng New Energy Material Joint-Stock Co., Ltd. | 31.50 | 41.90
Shanghai Shenyan Packaging Materials Co., Ltd. | 31.50 | 41.90
SNTO International Trade Limited | 31.50 | 41.90
Suzhou Manakin Aluminum Processing Technology Co., Ltd.¹² | 31.50 | 41.90

Disclosure

Commerce will disclose to the parties in this proceeding the calculations performed for these final results within five days of the date of publication of this notice in the Federal Register.¹³

¹³ See 19 CFR 351.224(b).

Assessment Rates

Pursuant to 19 CFR 351.212(b)(2), Commerce will determine, and U.S. Customs and Border Protection (CBP) shall assess, countervailing duties on all appropriate entries of subject merchandise in accordance with the final results of this review, for the above-listed companies at the applicable ad valorem assessment rates listed. Consistent with its recent notice,¹⁴ Commerce intends to issue assessment instructions, including assessment instructions for those companies for which we rescinded the review,¹⁵ to CBP no earlier than 35 days after the date of publication of the final results of this review in the Federal Register. If a timely summons is filed at the U.S. Court of International Trade, the assessment instructions will direct CBP not to liquidate relevant entries until the time for parties to file a request for a statutory injunction has expired (i.e., within 90 days of publication).

¹⁴ See Notice of Discontinuation of Policy to Issue Liquidation Instructions After 15 Days in Applicable Antidumping and Countervailing Duty Administrative Proceedings, 86 FR 3995 (January 15, 2021).

¹⁵ See Preliminary Results.

Cash Deposit Rates

In accordance with section 751(a)(1) of the Act, Commerce intends to instruct CBP to collect cash deposits of estimated countervailing duties in the amounts shown for each of the respective companies listed above. For all non-reviewed firms, we will instruct CBP to continue to collect cash deposits of estimated countervailing duties at the most recent company-specific or all-others rate applicable to the company, as appropriate. These cash deposits, when imposed, shall remain in effect until further notice.

Administrative Protective Order

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

Notification to Interested Parties

Commerce is issuing and publishing these final results in accordance with sections 751(a)(1) and 777(i)(1) of the Act.

Dated: February 24, 2021.
Christian Marsh,
Acting Assistant Secretary for Enforcement and Compliance.

Appendix

List of Topics Discussed in the Issues and Decision Memorandum

I. Summary

II. List of Issues

III. Background

IV. Changes Since The Preliminary Results

V. Scope of the Order

VI. Period of Review

VII. Non-Selected Companies Under Review

VIII. Subsidies Valuation Information

IX. Benchmarks and Interest Rates

X. Use of Facts Otherwise Available and Adverse Inferences

XI. Analysis of Programs

XII. Analysis of Comments

XIII. Recommendation

[FR Doc. 2021-04270 Filed 3-1-21; 8:45 am]

BILLING CODE 3510-DS-P